DEPARTMENT OF THE INTERIOR

National Park Service

Notice of Availability; Record of Decision, New Bedford Whaling National Historic Park

AGENCY: National Park Service, Interior.

ACTION: The National Park Service announces the availability of the Record of Decision of the final impact statement for the New Bedford Whaling National Historical Park General Management Plan.

SUMMARY: The National Park Service has prepared the Record of Decision of the Final Environmental Impact Statement for the New Bedford Whaling National Historical Park General Management Plan pursuant to the National Environmental Policy Act of 1969 and the regulations promulgated by the Council on Environmental Quality at 40 CFR 1505.2. A Record of Decision is a concise statement of the decision made, the basis for the decision, and the background of the project, including the decision making process, other alternatives considered, and public involvement. Concurrent with adopting this Record of Decision on the Final Environmental Impact Statement, New Bedford Whaling National Historical Park General Management Plan is approved.

The National Park Service began planning for the management of New Bedford Whaling National Historical Park in 1997. The National Park Service presented and evaluated three management scenarios (the Proposed Management Option and 2 Alternatives) in a Draft General Management Plan/Draft Environmental Impact Statement. The draft plan underwent sixty days of public and interagency review. After considering public and agency comment, the National Park Service produced the Final Environmental Impact Statement, which was available to the public for thirty days beginning on July 2, 2001. The National Park Service took no action for the thirty-day period of public availability, after which time the Park Service prepared the Record of Decision, selecting the Proposed Management Option as the final plan. In the selected option the National Park Service would share responsibility with its partners for protecting the park's historic resources and offering effective programming to the visiting public. The National Park Service would bring the story of New Bedford and American whaling to a national audience. Public education, interpretation, research, and technical training aimed at generating understanding and fostering greater resource stewardship would be emphasized through National Park Service activities. Under this management option, the National Park Service's role and responsibilities would be expanded with regards to historic preservation and universal access. The Record of Decision is now approved and available to the public.

Availability: Copies of the Record of Decision are available at New Bedford Whaling National Historical Park, 33 William Street, New Bedford, Massachusetts. For further information, please contact the Superintendent, New Bedford Whaling National Historical Park, 33 William Street, New Bedford, Massachusetts 02740; voice at (508) 996-4469; fax at (508) 994-8922.

Dated: September 14, 2001.
Chrysandra Walter,
Deputy Director, Northeast Region.

[FR Doc. 01-27758 Filed 11-5-01; 8:45 am]

BILLING CODE 4310-70-M